SECURITIES AND EXCHANGE COMMISSION

Sunshine Act Meeting

Federal Register Citation Of Previous Announcement: [73 FR 55571, September 25, 2008].

Status: Closed Meeting.

Place: 100 F Street, NE., Washington, DC.

Date and Time of Previously Announced Meeting: Monday, September 29, 2008 at 2 p.m.

Change in the meeting: Cancellation of Meeting.

The Closed Meeting scheduled for Monday, September 29, 2008 was cancelled.

For further information please contact the Office of the Secretary at (202) 551-5400.

Dated: October 1, 2008,
Florence E. Harmon,
Acting Secretary.

[FR Doc. E8-23579 Filed 10-3-08; 8:45 am]

BILLING CODE 8011-01-P